DEPARTMENT OF HOMELAND SECURITY

Coast Guard

33 CFR Part 165

[Docket No. COTP St. Petersburg 07-046]

RIN 1625-AA87

Security Zone; Tampa Bay, Port of Tampa, Port of St. Petersburg, Rattlesnake, Old Port Tampa, Big Bend, Weedon Island, and Crystal River, FL

AGENCY: Coast Guard, DHS.

ACTION: Notice of proposed rulemaking.

SUMMARY: The Coast Guard proposes to revise certain security zones within the Captain of the Port Sector St. Petersburg Zone (formerly the Captain of the Port Tampa Zone). The purpose of these revisions is to ensure the security of vessels, facilities, and the surrounding areas within these zones. Entry into the area encompassed by these revised security zones would be prohibited without permission of the Captain of the Port.

DATES: Comments and related material must reach the Coast Guard on or before December 6, 2007.

ADDRESSES: You may mail comments and related material to Coast Guard Sector St. Petersburg, Prevention Department, 155 Columbia Drive, Tampa, FL 33606-3598. Coast Guard Sector St. Petersburg, Prevention Department maintains the public docket for this rulemaking. Comments and material received from the public, as well as documents indicated in this preamble as being available in the docket, will become part of this docket and will be available for inspection or copying at Coast Guard Sector St. Petersburg, Prevention Department, 155 Columbia Drive, Tampa, FL 33606-3598 between 7:30 a.m. and 3:30 p.m., Monday through Friday, except Federal holidays.

FOR FURTHER INFORMATION CONTACT: Lieutenant Jessica Crandell at the Waterways Management Division, Sector St. Petersburg, FL (813) 228-2191 Ext 8146.

SUPPLEMENTARY INFORMATION:

Request for Comments

We encourage you to participate in this rulemaking by submitting comments and related material. If you do so, please identify the docket number for this rulemaking (COTP Sector St. Petersburg 07-046), indicate the specific section of this document to which each comment applies, and give the reason for each comment. We recommend that you include your name and a mailing address, an e-mail address, or a phone number in the body of your document so that we can contact you if we have questions regarding your submission. For example, we may ask you to resubmit your comment if we are not able to read your original submission. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. You may submit a request for a meeting by writing to Waterways Management Division at the address under ADDRESSES explaining why one would be beneficial. If we determine that one would aid this rulemaking, we will hold one at a time and place announced by a later notice in the Federal Register.

Background and Purpose

The Maritime Transportation Security Act authorized the establishment of Area Maritime Security Committees (AMSC) that “advise, consult with, report to, and make recommendations” on matters relating to maritime security in an AMSC's port area. See 46 U.S.C. 70112(a)(2) and 33 CFR 103.205. One topic the Tampa AMSC discussed is the existing security zones established soon after the terrorist attacks of September 11, 2001. See 68 FR 47852, August 12, 2003, and 68 FR 52340, September 3, 2003.

These existing security zones were established in 2003 and codified in 33 CFR 165.760 and 165.764 by the Captain of the Port Tampa. As noted in the notice of proposed rulemakings for these two final rules, there were a number of temporary security zone rules issued before these two final rules. See 68 FR 7093, February 12, 2003 and 68 FR 19166, April 18, 2003.

Some of the security zones in §§ 165.760 and 165.764 were suspended from July 26, 2007 until January 1, 2008, and revised, temporary security zones were made effective during this same period. See 72 FR 45162, August 13, 2007. These temporary changes were made based on the newly-developed Maritime Security Risk Analysis tool utilized by the AMSC.

A Tampa AMSC working group evaluated risk to the maritime transportation system (MTS) within Tampa Bay, and assessed various risk mitigation options. The results of the risk assessment indicated the need to revise the following established security zones for the purpose of enhancing port security for the region:

• § 165.760(a)(1), Rattlesnake, Tampa, FL;

• § 165.760(a)(3), Sunshine Skyway Bridge, Tampa, FL;

• § 165.760(a)(5), Piers, Seawalls, and Facilities, Port of Tampa, Port Sutton and East Bay;

• § 165.760(a)(7), Piers, Seawalls, and Facilities, Port of Tampa, on the western side of Hooker's Point;

• § 165.764(a)(1), Big Bend, Tampa Bay, Florida zone.

The five revised zones temporarily replacing these five suspended zones appear in § 165.T07-047(a) (1) through (5), but will expire January 2, 2008. The risk assessment also indicated that two of the zones suspended—§ 165.760(a)(6) [Piers, seawalls, and facilities, Port of Tampa, East Bay and the eastern side of Hooker's Point], and (a)(8) [Piers, seawalls, and facilities, Port of Manatee]—were no longer needed.

The security zones proposed in this notice have been discussed, vetted and recommended by representatives of the Department of Homeland Security's Office of Infrastructure Protection, the Western Florida Area Maritime Security Committee, the Florida Region IV and VI Regional Domestic Security Task Forces, and numerous local agencies who share in the maritime security mission in the Tampa Bay region. These proposed revisions are needed to ensure the security of vessels, facilities, and the surrounding areas within the Captain of the Port Sector St. Petersburg Zone following the expiration of the currently-effective temporary final rule, 72 FR 45162, August 13, 2007.

In 2005, Sector St. Petersburg was created, replacing the Captain of the Port Tampa Zone. Authority to create security zones in the Tampa Bay region now resides with the Sector St. Petersburg Captain of the Port. See 70 FR 41415, July 19, 2005, and 72 FR 36316, July 2, 2007.

Discussion of Proposed Rule

The security zones described in this notice have been discussed, vetted and recommended by representatives of the Department of Homeland Security's Office of Infrastructure Protection, the Western Florida Area Maritime Security Committee, the Florida Region IV and VI Regional Domestic Security Task Forces, and numerous local agencies who share in the maritime security mission in the Tampa Bay region.

The following areas are proposed to be established as permanent security zones in 33 CFR 165.760 by revising or adding the following paragraphs in that section. All coordinates were fixed using the North American Datum of 1983.

• Revise § 165.760(a)(3), Sunshine Skyway Bridge, Tampa, FL. All waters in Tampa Bay, from surface to bottom, in Cut “A” channel beneath the bridge's main span encompassed by a line connecting the following points: 27°37.30′ N, 082°39.38′ W to 27°37.13′ N, 082°39.26′ W; and, the bridge structure columns, base and dolphins. This zone is specific to the bridge structure and dolphins and does not include waters adjacent to the bridge columns or dolphins outside of the bridge's main span.

• Revise § 760(a)(5), Piers, Seawalls, and Facilities, Port of Tampa, Port Sutton and East Bay. All waters, from surface to bottom, extending 50 yards from the shore, seawall, and piers around facilities in Port Sutton within the Port of Tampa encompassed by a line connecting the following points: 27°54.15′ N, 082°26.11′ W; east northeast to 27°54.19′ N, 082°26.00′ W; then northeast to 27°54.37′ N, 082°25.72′ W, closing off all Port Sutton channel; then northerly to 27°54.48′ N, 082°25.70′ W.

• Revise § 165.760(a)(7), Piers, Seawalls, and Facilities, Port of Tampa, on the western side of Hooker's Point. All waters, from surface to bottom, extending 50 yards from the shore, seawall, and piers around facilities on Hillsborough Bay northern portion of Cut “D” channel, Sparkman channel, Ybor Turning Basin, and Ybor channel within the Port of Tampa encompassed by a line connecting the following points: 27°54.74′ N, 082°26.47′ W; northwest to 27°55.25′ N, 082°26.73′ W; then north-northwest to 27°55.60′ N, 082°26.80′ W; then north-northeast to 27°56.00′ N, 082°26.75′ W; then northeast to 27°56.58′ N, 082°26.53′ W; and north to 27°57.29′ N, 082°26.51′ W; west to 27°57.29′ N, 082°26.61′ W; then southerly to 27°56.65′ N, 082°26.63′ W; southwesterly to 27°56.58′ N, 082°26.69′ W; then southwesterly and terminating at 27°56.53′ N, 082°26.90′ W.

• Remove § 165.764(a)(1) and add § 165.764(a)(14), Big Bend Power Plant, FL. All waters of Tampa Bay, from surface to bottom, adjacent to the Big Bend Power Facility, and within an area bounded by a line connecting the following points: 27°48.08′ N, 082°24.88′ W; then northwest to 27°48.15′ N, 082°24.96′ W; then southwest to 27°48.10′ N, 082°25.00′ W; then south-southwest to 27°47.85′ N, 082°25.03′ W; then southeast to 27°47.85′ N, 082°24.79′ W; then east to 27°47.55′ N, 082°24.04′ W; then north to 27°47.62′ N, 082°84.04′ W; then west to 27°47.60′ N, 082°24.72′ W; then north to 27°48.03′ N, 082°24.70′ W; then northwest to 27°48.08′ N, 082°24.88′ W, closing off entrance to Big Bend Power Facility and the attached cooling canal.

• Remove § 165.764(a)(2), revised its heading but add its text unchanged to a new § 165.764(a)(15), Weedon Island Power Plant, FL. All waters of Tampa Bay, from surface to bottom, extending 50-yards from the shore, seawall and piers around the Power Facility at Weedon Island encompassed by a line connecting the following points: 27°51.52′ N, 082°35.82′ W; then north and east along the shore to 27°51.54′ N, 082°35.78′ W; then north to 27°51.68′ N, 082°35.78′ W; then north to 27°51.75′ N, 082°35.78′ W, closing off entrance to the canal; then north to 27°51.89′ N, 082°35.82′ W; then west along the shore to 27°51.89′ N, 082°36.10′ W; then west to 27°51.89′ N, 082°36.14′ W, closing off entrance to the canal.

• Revise § 165.760(a)(1), Rattlesnake Tampa, FL. All water, from surface to bottom, in Old Tampa Bay east and south of a line commencing at position 27°53.32′ N, 082°32.05′ W; north to 27°53.36′ N, 082°32.05′ W, including on land portions of Chemical Formulators Chlorine Facility, where the fenced area is bounded by a line connecting the following points: 27°53.21′ N, 082°32.11′ W; west to 27°53.22′ N, 082°32.23′ W; then north to 27°53.25′ N, 082°32.23′ W; then west again to 27°53.25′ N, 082°32.27′ W; then north again to 27°53.29′ N, 082°32.25′ W; then east to 27°53.30′ N, 082°32.16′ W; then southeast terminating at 27°53.21′ N, 082°32.11′ W.

Please note that the portion of the description of § 165.760(a)(1) after the word “including” differs from the currently effective temporary § 165.T07-047(a)(1). We determined that the “fenced area” should be more clearly defined in the permanent regulation and propose replacing the following description “including the fenced area encompassing the Chemical Formulator Chlorine Facility” in TFR 72 FR 45162-01 with a more accurate North American Datum Description. The new description is: “including on land portions of Chemical Formulators Chlorine Facility where the fenced area is bounded by a line connecting the following points: 27°53.21′ N, 082°32.11′ W; west to 27°53.22′ N, 082°32.23′ W; then north to 27°53.25′ N, 082°32.23′ W; then west again to 27°53.25′ N, 082°32.27′ W; then north again to 27°53.29′ N, 082°32.25′ W; then east to 27°53.30′ N, 082°32.16′ W; then southeast terminating at 27°53.21′ N, 082°32.11′ W.”

Entry into or remaining on or within these proposed revised zones would be prohibited unless authorized by the Captain of the Port Sector St. Petersburg or his designated representative. Persons desiring to transit the area of the security zone may contact the Captain of the Port Sector St. Petersburg or his designated representative on VHF channel 16 to seek permission to transit the area. If permission is granted, all persons and vessels must comply with the instructions of the Captain of the Port or his designated representative. In the case of moving security zones, notification will be given by Broadcast Notice to Mariners on VHF FM Marine Band Radio, Channel 22A. For vessels not equipped with a radio, there will also be on site notification via a designated representative of the Captain of the Port. A graphical representation of all fixed security zones will be made available via the World Wide Web: http://homeport.uscg.mil/mycg/portal/ep/portDirectory.do?tabId=1&­cotpId=50, Coast Pilot and nautical charts.

Because we proposed to move the only two security zones in § 165.764 to § 165.760, we propose to remove and reserve § 165.764.

We also proposed to reverse the order of the regulations and definitions paragraphs in § 165.760 by having the definitions appear first. We proposed to add a definition designated representative to the revised paragraph (b).

In revised paragraph (c) we have replaced references to the Captain of the Port Tampa with references to Captain of the Port Sector St. Petersburg and made references to using Broadcast Notice to Mariners to announce the activation of moving security zones by cruise ships entering certain waters—see § 165.760(a)(9).

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. This proposed rule may have some impact on the public, but these potential impacts will be minimized for the following reasons: There is ample room for vessels to navigate around security zones, and there are several locations for recreational and commercial fishing vessels to fish throughout the Tampa Bay Region. Also, the Captain of the Port may, on a case-by-case basis allow persons or vessels to enter a security zone.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities because the majority of the zones are limited in size, leaving ample room for vessels to navigate around the zones. The zones will not significantly impact commuter and passenger vessel traffic patterns, and mariners will be notified of the zones via local notice to mariners and marine broadcasts. Also, the Captain of the Port may, on a case-by-case basis, allow persons or vessels to enter a security zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the office listed under FOR FURTHER INFORMATION CONTACT, for assistance in understanding this rule. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. We seek any comments or information that may lead to the discovery of a significant environmental impact from this proposed rule.

List of Subjects in 33 CFR Part 165

Harbors, Marine safety, Navigation (water), Reporting and record keeping requirements, Security measures, Waterways.

Words of Issuance and Regulatory Text

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6 and 160.5; Pub. L. 107-295, 116 Stat. 2064; Department of Homeland Security Delegation No. 0170.1.

2. In § 165.760, revise paragraphs (a)(1), (a)(3), (a)(5), (a)(7), (b) and (c), and add paragraphs (a)(14) and (a)(15) to read as follows:

§ 165.760 Security Zones; Tampa Bay, Port of Tampa, Port of Saint Petersburg, Rattlesnake, Old Port Tampa, Big Bend, Weedon Island, and Crystal River; Florida.

(a) * * *

(1) Rattlesnake, Tampa, FL. All water, from surface to bottom, in Old Tampa Bay east and south of a line commencing at position 27°53.32′ N, 082°32.05′ W; north to 27°53.36′ N, 082°32.05′ W, including on land portions of Chemical Formulators Chlorine Facility, where, the fenced area is bounded by a line connecting the following points: 27°53.21′ N, 082°32.11′ W; west to 27°53.22′ N, 082°32.23′ W; then north to 27°53.25′ N, 082°32.23′ W; then west again to 27°53.25′ N, 082°32.27′ W; then north again to 27°53.29′ N, 082°32.25′ W; then east to 27°53.30′ N, 082°32.16′ W; then southeast terminating at 27°53.21′ N, 082°32.11′ W.

* * * * *

(3) Sunshine Skyway Bridge, FL. All waters in Tampa Bay, from surface to bottom, in Cut “A” channel beneath the bridge's main span encompassed by a line connecting the following points: 27°37.30′ N, 082°39.38′ W to 27°37.13′ N, 082°39.26′ W; and, the bridge structure columns, base and dolphins. This zone is specific to the bridge structure and dolphins and does not include waters adjacent to the bridge columns or dolphins outside of the bridge's main span.

* * * * *

(5) Piers, seawalls, and facilities, Port of Tampa and Port Sutton, Tampa, FL. All waters, from surface to bottom, extending 50 yards from the shore, seawall, and piers around facilities in Port Sutton within the Port of Tampa encompassed by a line connecting the following points: 27°54.15′ N, 082°26.11′ W; east northeast to 27°54.19′ N, 082°26.00′ W; then northeast to 27°54.37′ N, 082°25.72′ W, closing off all Port Sutton channel; then northerly to 27°54.48′ N, 082°25.70′ W.

* * * * *

(7) Piers, seawalls, and facilities, Port of Tampa, on the western side of Hooker's Point, Tampa, FL. All waters, from surface to bottom, extending 50 yards from the shore, seawall, and piers around facilities on Hillsborough Bay northern portion of Cut “D” channel, Sparkman channel, Ybor Turning Basin, and Ybor channel within the Port of Tampa encompassed by a line connecting the following points: 27°54.74′ N, 082°26.47′ W; northwest to 27°55.25′ N, 082°26.73′ W; then north-northwest to 27°55.60′ N, 082°26.80′ W; then north-northeast to 27°56.00′ N, 082°26.75′ W; then northeast to 27°56.58′ N, 082°26.53′ W; and north to 27°57.29′ N, 082°26.51′ W; west to 27°57.29′ N, 082°26.61′ W; then southerly to 27°56.65′ N, 082°26.63′ W; southwesterly to 27°56.58′ N, 082°26.69′ W; then southwesterly and terminating at 27°56.53′ N, 082°26.90′ W.

* * * * *

(14) Big Bend Power Plant, FL. All waters of Tampa Bay, from surface to bottom, adjacent to the Big Bend Power Facility, and within an area bounded by a line connecting the following points: 27°48′08″ N, 082°24′88″ W; then northwest to 27°48′15″ N, 082°24′96″ W; then southwest to 27°48′10″ N, 082°25′00″ W; then south-southwest to 27°47′85″ N, 082°25′03″ W; then southeast to 27°47′85″ N, 082°24′79″ W; then east to 27°47′55″ N, 082°24′04″ W; then north to 27°47′62″ N, 082°84′04″ W; then west to 27°47′60″ N, 082°24′72″ W; then north to 27°48′03″ N, 082°24′70″ W; then northwest to 27°48′08″ N, 082°24′88″ W, closing off entrance to Big Bend Power Facility and the attached cooling canal.

(15) Weedon Island Power Plant, FL. All waters of Tampa Bay, from surface to bottom, extending 50-yards from the shore, seawall and piers around the Power Facility at Weedon Island encompassed by a line connecting the following points: 27°51′52″ N, 082°35′82″ W; then north and east along the shore to 27°51′54″ N, 082°35′78″ W; then north to 27°51′68″ N, 082°35′78″ W; then north to 27°51′75″ N, 082°35′78″ W, closing off entrance to the canal; then north to 27°51′89″ N, 082°35′82″ W; then west along the shore to 27°51′89″ N, 082°36′10″ W; then west to 27°51′89″ N, 082°36′14″ W, closing off entrance to the canal.

(b) Definitions. As used in this section—

Cruise ship means a vessel required to comply with 33 CFR part 120.

Designated representative means Coast Guard Patrol Commanders including Coast Guard coxswains, petty officers and other officers operating Coast Guard vessels, and federal, state, and local officers designated by or assisting the Captain of the Port (COTP), in the enforcement of regulated navigation areas, safety zones, and security zones.

(c) Regulation. (1) Entry into or remaining on or within the zones described in paragraph (a) of this section is prohibited unless authorized by the Captain of the Port St. Petersburg or his designated representative.

(2) Persons desiring to transit the area of the security zone may contact the Captain of the Port St. Petersburg or his designated representative on VHF channel 16 to seek permission to transit the area. If permission is granted, all persons and vessels must comply with the instructions of the Captain of the Port or designated representative. In the case of moving security zones, notification of activation of these zones will be given by Broadcast Notice to Mariners on VHF FM Marine Band Radio, Channel 22A. For vessels not equipped with a radio, there will also be on site notification via a designated representative of the Captain of the Port.

Note to § 165.760 (c)(2): A graphical representation of all fixed security zones will be made available via the Coast Pilot and nautical charts.

(3) Enforcement. Under § 165.33, no person may cause or authorize the operation of a vessel in the security zones contrary to the provisions of this section.

* * * * *

§ 165.764 [Removed]

3. Remove and reserve § 165.764.

Dated: October 29, 2007.
J.A. Servidio,
Captain, U.S. Coast Guard, Captain of the Port St. Petersburg.

[FR Doc. E7-21760 Filed 11-5-07; 8:45 am]

BILLING CODE 4910-15-P